DEPARTMENT OF TRANSPORTATION

Federal Aviation Administration

[Docket No. FAA-2005-22842]

Notice of Opportunity To Participate, Criteria Requirements and Application Procedure for Participation in the Military Airport Program (MAP); Correction

AGENCY: Federal Aviation Administration (FAA), Department of Transportation (DOT).

ACTION: Notice of criteria and application procedures for designation or redesignation, for the fiscal year 2006 MAP; Correction.

SUMMARY: The FAA is issuing a correction to the Notice of Opportunity To Participate, Criteria Requirements and Application Procedure for Participation in the Military Airport Program (MAP), which was published in the Federal Register on October 16, 2006 (71 FR 60791). That Notice announced the criteria, application procedures, and schedule to be applied by the Secretary of Transportation in designating or redesignating, and funding capital development annually for up to 15 current (joint-use) or former military airports seeking designation or redesignation to participate to the Military Airport Program (MAP). These corrections change the year from “2006” to “2007” and change available slots from “6 slots” to “4 slots”.

DATES: Applications must be received on or before November 27, 2006.

FOR FURTHER INFORMATION CONTACT: Mr. Ball (Kendall.Ball@faa.gov), Airports Financial Assistance Division (APP-500), Office of Airport Planning and Programming, Federal Aviation Administration (FAA), 800 Independence Avenue, SW., Washington, DC 20591, (202) 267-7436.

Correction

In FR Doc. 06-8686 published on October 16, 2006 (71 FR 60791) make the following corrections:

1. On page 60791, in the ACTION line correct “fiscal year 2006” to read “fiscal year 2007”.

2. On page 60792, in the paragraph in the first column under the heading “Number of Airports”, in the second sentence, correct “6 slots” to read “4 slots” and correct “FY 2006” to read “FY 2007”.

3. On page 60793, in the eighth line from the top of the second column, correct “FY 2006” to read “FY 2007”.

Issued in Washington, DC on October 19, 2006.
Dennis E. Roberts,
Director, Office of Airport Planning and Programming.

[FR Doc. 06-8844 Filed 10-24-06; 8:45 am]

BILLING CODE 4910-13-M